SURFACE TRANSPORTATION BOARD

[Docket No. FD 36304]

CWW, LLC—Change in Operator Exemption Assigning BNSF Railway Company Lease With Interchange Commitment—Palouse River & Coulee City Railroad, L.L.C.

CWW, LLC (CWW), a Class III rail carrier, has filed a verified notice of exemption under 49 CFR 1150.41 to assume operation of approximately 9.7 miles of rail line owned by BNSF Railway Company (BNSF) and currently leased and operated by the Palouse River & Coulee City Railroad, L.L.C. (PCC), located between milepost 0.6 at Wallula, Wash., and milepost 4.3 at Zangar Jct., Wash., and between milepost 62.01 and milepost 68.01 at Walla Walla, Wash. (the Line).

The verified notice states that the Line is currently operated by PCC pursuant to a 1993 lease agreement.¹ CWW states that it is entering into an Assignment, Assumption and Consent Agreement with BNSF and PCC pursuant to which the 1993 lease agreement together with a 1993 BNSF-BLMR interchange agreement, including subsequent amendments, is being assigned to CWW. Upon consummation of the transaction, CWW will provide common carrier rail service in place of PCC.

¹ CWW states that the lease was originally between Blue Mountain Railroad, Inc. (BLMR), and Burlington Northern Railroad Company, Blue Mountain R.R.—Lease & Operation Exemption—Line of Burlington N. R.R., FD 32387 (ICC served Oct. 5, 1994), and that in 2000, BLMR was absorbed into PCC, Watco Co.—Corp. Family Transaction Exemption, FD 33898 (STB served July 24, 2000).

CWW states that the 1993 lease agreement being assigned to it contains an interchange commitment imposing a charge for carloads originating or terminating on the Line that are not interchanged with BNSF.² CWW has provided additional information regarding the interchange commitment as required by 49 CFR 1150.43(h).

² A copy of the 1993 lease agreement with the interchange commitment was submitted under seal with the verified notice. See 49 CFR 1150.43(h)(1).

CWW certifies that its projected revenues as a result of the transaction will not result in the creation of a Class II or Class I rail carrier and will not exceed $5 million.

Under 49 CFR 1150.42(b), a change in operator requires that notice be given to shippers. CWW certifies that it has provided notice of the proposed transaction and interchange commitment to shippers that currently use or have used the Line in the last two years.

The earliest this transaction may be consummated is June 21, 2019 (30 days after the verified notice of exemption was filed). CWW states that it expects to consummate the transaction on or after June 22, 2019.

If the verified notice contains false or misleading information, the exemption is void ab initio. Petitions to revoke the exemption under 49 U.S.C. 10502(d) may be filed at any time. The filing of a petition to revoke will not automatically stay the effectiveness of the exemption. Petitions for stay must be filed no later than June 14, 2019 (at least seven days before the exemption becomes effective).

All pleadings, referring to Docket No. FD 36304, must be filed with the Surface Transportation Board either via e-filing or in writing addressed to 395 E Street SW, Washington, DC 20423-0001. In addition, a copy of each pleading must be served on CWW's representative, James H.M. Savage, 22 Rockingham Court, Germantown, MD 20874.

According to CWW, this action is excluded from environmental review under 49 CFR 1105.6(c) and from historic preservation reporting requirements under 49 CFR 1105.8(b)(1).

Board decisions and notices are available at www.stb.gov.

Decided: June 3, 2019.
By the Board, Allison C. Davis, Acting Director, Office of Proceedings.
Tammy Lowery,
Clearance Clerk.

[FR Doc. 2019-12023 Filed 6-6-19; 8:45 am]

BILLING CODE 4915-01-P